DEPARTMENT OF HEALTH AND HUMAN SERVICES

Agency for Toxic Substances and Disease Registry

Community/Tribal Subcommittee and the Board of Scientific Counselors, Agency for Toxic Substances and Disease Registry: Meetings

In accordance with section 10(a)(2) of the Federal Advisory Committee Act (Pub. L. 92-463), the Agency for Toxic Substances and Disease Registry (ATSDR) announces the following subcommittee and committee meetings.

Name: Community/Tribal Subcommittee (CTS).

Time and Date: 8:30 a.m.-4:30 p.m., May 21, 2003.

Place: Embassy Suites Hotel, 1881 Curtis Street, Denver, Colorado 80202.

Status: Open to the public, limited by the available space. The meeting room accommodates approximately 50 people.

Purpose: This subcommittee brings to the Board advice, citizen input, and recommendations on community and tribal programs, practices, and policies of the Agency.

Matters To Be Discussed: Agenda items include a panel discussion on the National Policy on Military Munitions Document; Special Consultants Summary Report on Work Session Outcomes; CTS Task Force—Working Sessions; updates on the Community and Tribal Subcommittee Evaluation Process; an update on current ATSDR activities; and a review of Action Items and Recommendations.

Name: Board of Scientific Counselors, ATSDR.

Times and Dates: 8:30 a.m.-5 p.m., May 22, 2003. 8:30 a.m.-12:10 p.m., May 23, 2003.

Place: Embassy Suites Hotel, 1881 Curtis Street, Denver, Colorado, 80202.

Status: Open to the public, limited by the available space. The meeting room accommodates approximately 50 people.

Purpose: The Board of Scientific Counselors, ATSDR, advises the Secretary and the Administrator, ATSDR, on ATSDR programs to ensure scientific quality, timeliness, utility, and dissemination of results. Specifically, the Board advises on the adequacy of science in ATSDR-supported research, emerging problems that require scientific investigations, accuracy and currency of the science in ATSDR reports, and program areas to emphasize or de-emphasize. In addition, the Board recommends research programs and conference support for which the Agency awards grants to universities, colleges, research institutions, hospitals, and other public and private organizations.

Matters To Be Discussed: Agenda will include an update on ATSDR; update on bioterrorism activities and funding; discussion on the VBI-70 Site activities; discussion on Indoor Air and VOC Sites; discussion on the consolidation of ATSDR and the National Center for Environmental Health; update on the Agenda for Public Health Environmental Research, the CTS Evaluation, and the Board's Charter renewal; update on Peer Review and the Board's involvement; reports on the CTS, the Health Department Subcommittee, and the Social-Behavioral Science Workgroup; discussion of issues on perchlorates, community environmental indicators, and Rapid Response Registry; and a review of Action Items and Recommendations.

Written comments are welcomed and should be received by the contact person listed below prior to the opening of the meeting.

Agenda items are subject to change as priorities dictate.

Contact Person for More Information: Robert Spengler, Sc.D., Executive Secretary, Board of Scientific Counselors, ATSDR, M/S E-28, 1600 Clifton Road, NE., Atlanta, Georgia 30333, telephone 404/498-0003.

The Director, Management Analysis and Services Office, has been delegated the authority to sign Federal Register notices pertaining to announcements of meetings and other committee management activities for both CDC and the Agency for Toxic Substances and Disease Registry.

Dated: April 24, 2003.
Alvin Hall,
Director, Management Analysis and Services Office, Centers for Disease Control and Prevention.

[FR Doc. 03-10636 Filed 4-29-03; 8:45 am]

BILLING CODE 4163-70-P